ENVIRONMENTAL PROTECTION AGENCY

40 CFR Part 52

[EPA-R03-OAR-2007-1001; FRL-8709-6]

Approval and Promulgation of Air Quality Implementation Plans; Maryland; NOX and SO2 Emissions Limitations for Fifteen Coal-Fired Electric Generating Units

AGENCY: Environmental Protection Agency (EPA).

ACTION: Partial withdrawal of proposed rule.

SUMMARY: EPA is withdrawing a portion of a proposed rule pertaining to a State of Maryland State Implementation Plan (SIP) revision that establishes tonnage caps for emissions of nitrogen oxides (NOX) and sulfur dioxide (SO2) from 15 coal-fired electric generating units. The proposed rule was published on January 10, 2008 (73 FR 1851). EPA is withdrawing a provision of the rule that Maryland requested we take no further action on. EPA has determined that the provision has no impact on the remainder of the rule, which is being finalized by separate document. This SIP action is being taken under the Clean Air Act (CAA).

DATES: The proposed rule for COMAR 26.11.27.03B(7)(a)(iii) is withdrawn as of September 4, 2008.

FOR FURTHER INFORMATION CONTACT: Marilyn Powers at (215) 814-2308, or by e-mail at powers.marilyn@epa.gov.

SUPPLEMENTARY INFORMATION: See the information provided in the proposed rule entitled, “Approval and Promulgation of Air Quality Implementation Plans; Maryland; NOX and SO2 Emissions Limitations for Fifteen Coal-Fired Electric Generating Units,” located in the Proposed Rules section of the January 10, 2008 Federal Register (73 FR 1851). On June 23, 2008, the Maryland Department of the Environment (MDE) submitted a letter withdrawing a portion of their July 12, 2007 submittal. The withdrawal only affects COMAR 26.11.27.03B(7)(a)(iii). This provision requires a unit that exceeds its ozone season NOX emissions limit to surrender ozone season NOX allowances equivalent to the number of tons of NOX emitted in excess of the limit. The June 23, 2008 letter requested that EPA finalize its rulemaking with respect to the rest of the SIP Revision that is not withdrawn. EPA determined that withdrawal of COMAR 26.11.27.03B(7)(a)(iii) does not impact the other requirements in COMAR 26.11.27 and is severable. The other portions of the January 10, 2008 proposed rule are not affected, and are being finalized in a separate notice.

List of Subjects in 40 CFR Part 52

Environmental protection, Air pollution control, Nitrogen dioxide, Reporting and recordkeeping requirements, Sulfur oxides.

Dated: August 20, 2008.
William T. Wisniewski,
Acting Regional Administrator, Region III.

[FR Doc. E8-19999 Filed 9-3-08; 8:45 am]

BILLING CODE 6560-50-P